DEPARTMENT OF HEALTH AND HUMAN SERVICES

Administration for Children and Families

Submission for Office of Management and Budget Review; ACF-800: Child Care and Development Fund (CCDF) Annual Aggregate Report (Office of Management and Budget #0970-0150)

AGENCY: Office of Child Care, Administration for Children and Families, U.S. Department of Health and Human Services.

ACTION: Request for public comments.

SUMMARY: The Office of Child Care (OCC), Administration for Children and Families (ACF) is requesting a 3-year extension of the form ACF-800: CCDF Annual Aggregate Report (Office of Management and Budget (OMB) #0970-0150, expiration March 31, 2025). OCC proposes to delete questions related to COVID-19 supplemental funding that are no longer relevant. OCC had previously proposed additional changes to the form but has dropped those proposals to be responsive to public comment and limit administrative burden.

DATES: Comments due June 26, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. All emailed requests should be identified by the title of the information collection.

SUPPLEMENTARY INFORMATION:

Description: The ACF-800 provides annual aggregate data on the children and families receiving direct child care services under CCDF and is used by OCC to analyze and evaluate the CCDF program and the extent to which State and Territory Lead Agencies are assisting families in addressing child care needs.

Respondents: State and Territory Lead Agencies.

Annual Burden Estimates
Instrument | Total number of respondents | Annual number of responses per respondent | Average burden hours per response | Annual burden hours
ACF-800: CCDF Annual Aggregate Report | 56 | 1 | 40 | 2,240

Authority: The Child Care and Development Block Grant Act (42 U.S.C. 9857 et seq.); regulations at 45 CFR 98.70 and 98.71.

Mary C. Jones,
ACF/OPRE Certifying Officer.

[FR Doc. 2025-09377 Filed 5-23-25; 8:45 am]

BILLING CODE 4184-87-P